DEPARTMENT OF COMMERCE

National Oceanic and Atmospheric Administration

[I.D. 101106C]

Endangered and Threatened Species; Initiation of a Status Review under the Endangered Species Act (ESA) for the Black Abalone

AGENCY: National Marine Fisheries Service (NMFS), National Oceanic and Atmospheric Administration (NOAA), Commerce.

ACTION: Notice; initiation of a status review under the ESA.

SUMMARY: We, NMFS, announce the initiation of an ESA status review of the black abalone (Haliotis cracherodii), and we solicit information on the species.

DATES: Information on the black abalone must be received by December 18, 2006.

ADDRESSES: You may submit information on the black abalone via mail to Melissa Neuman, NMFS, Southwest Region, 501 West Ocean Blvd., Suite 4200, Long Beach, CA, 90802-4213, e-mail at black.abalone@noaa.gov, or fax to 562-980-4027. Include in the subject line of any e-mail the following document identifier: Black abalone review.

FOR FURTHER INFORMATION CONTACT: Melissa Neuman, (562) 980-4115, melissa.neuman@noaa.gov, or Marta Nammack, (301)713-1401, marta.nammack@noaa.gov.

SUPPLEMENTARY INFORMATION: We initiated an informal ESA status review of the black abalone on July 15, 2003, and we conducted a biological scoping workshop on January 29-30, 2004, which served to bring together individuals who have research experience with black abalone and/or experience conducting status reviews and/or stock assessments. A second workshop was convened on July 31-August 1, 2006, to discuss research advancements since 2003, standardization of monitoring and assessment efforts, and gaps in our understanding of the species' long-term trends. At this time, we are formally announcing a status review of the black abalone. This species was harvested commercially and recreationally beginning in the mid-1800s with significant declines detected in the late 1970s, and withering syndrome continues to be a threat to the species.

Comments Solicited

To support this status review, we are soliciting information on the following topics: (1) long-term trends in abundance throughout the species range; (2) potential factors for the species' decline throughout its range (e.g., overharvesting, natural predation, disease, habitat loss etc.); (3) status of the black abalone fishery in Mexico; (4) implication of low population size for black abalone conservation; (5) factors important for black abalone management; (6) current estimate of population size and available habitat; (7) knowledge of various life history parameters (size/age at maturity, fecundity, length of larval stage, larval dispersal dynamics, etc.); and (8) projections on population growth or decline and risk of extinction. See DATES and ADDRESSES for guidance on how, by when, and where to send information.

Dated: October 10, 2006.
James H. Lecky,
Director, Office of Protected Resources, National Marine Fisheries Service.

[FR Doc. E6-17247 Filed 10-16-06; 8:45 am]

BILLING CODE 3510-22-S